DEPARTMENT OF TRANSPORTATION

Federal Highway Administration

[Docket No. FHWA-2023-0010]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by July 3, 2023.

ADDRESSES: You may submit comments identified by DOT Docket ID Number 2023-0010 by any of the following methods:

Website: For access to the docket to read background documents or comments received go to the Federal eRulemaking Portal: Go to http://www.regulations.gov. Follow the online instructions for submitting comments.

Fax: 1-202-493-2251.

Mail: Docket Management Facility, U.S. Department of Transportation, West Building, Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Joseph Krolak, Senior Hydraulic Engineer, Federal Highway Administration, Department of Transportation, 1200 New Jersey Ave. SE, Washington, DC, between 9 a.m. and 5 p.m., Monday through Friday, except Federal holidays.

SUPPLEMENTARY INFORMATION:

Title: National Culvert Removal, Replacement, and Restoration Grant Program (Culvert AOP Program).

Background: Department of Transportation (DOT) invites public comments about our intention to request the Office of Management and Budget's (OMB) approval for a new information collection. In compliance with the Paperwork Reduction Act of 1995, the DOT provides notice that it will submit an information collection requests (ICR) to the Office of Management and Budget (OMB) for emergency approval of a proposed information collection. Upon receiving the requested six-month emergency approval by OMB, the Office of the Secretary (OST) will follow the normal PRA procedures to obtain extended approval for this proposed information collection. This collection involves applicants submitting an application for discretionary grant funding under the “National Culvert Removal, Replacement, and Restoration Grant Program” (Culvert AOP Program) established by the Infrastructure Investment and Jobs Act of 2021, November 15, 2021, “Bipartisan Infrastructure Law”, or “BIL”. DOT is requesting emergency approval due to the urgency of making the associated funds available to applicants that meet the eligibility requirements under the law. The continued viability of these funds is critical in supporting the transportation infrastructure and fish passage needs across the United States.

Respondents: States, units of local government, and an Indian Tribe as defined in section 4 of the Indian Self-Determination and Education Assistance Act (25 U.S.C. 5304).

Expected Number of Respondents: 200.

Frequency: One-time application, to be followed by project agreement execution, reimbursement of funds, reporting, and project closeout.

Estimated Average Burden Hours per Response: 19.

Estimated Total Annual Burden Hours: 8,600.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; 23 U.S.C. 134 and 135; and 23 CFR chapter 1, subchapter E, part 450.

Dated: April 27, 2023.
Michael Howell,
FHWA Information Collection Officer.

[FR Doc. 2023-09312 Filed 5-1-23; 8:45 am]

BILLING CODE 4910-22-P